CONSUMER PRODUCT SAFETY COMMISSION

[Docket No. CPSC-2010-0056]

Agency Information Collection Activities; Submission for OMB Review; Comment Request—Safety Standard for Bicycle Helmets

AGENCY: Consumer Product Safety Commission.

ACTION: Notice.

SUMMARY: In accordance with the requirements of the Paperwork Reduction Act (PRA) of 1995 (44 U.S.C. chapter 35), the Consumer Product Safety Commission (Commission or CPSC) announces that the Commission has submitted to the Office of Management and Budget (OMB), a request for extension of approval of a collection of information associated with the CPSC's Safety Standard for Bicycle Helmets (OMB No. 3041-0127). In the Federal Register of May 8, 2014 (78 FR 26416), the CPSC published a notice to announce the agency's intention to seek extension of approval of the collection of information. The Commission received one comment. The commenter supported the record keeping requirements for ensuring the safety of bicycle helmets. The commenter also stated that two revisions to the test method (impact ceiling and positional stability) should be made to the standard. The request to revise the test method of the standard is outside the scope of the proposed renewal request. The renewal request sought comments on the burden hours associated with recordkeeping requirements in the safety standard. However, the comment has been forwarded to the CPSC's Office of Hazard Identification and Reduction. Therefore, by publication of this notice, the Commission announces that CPSC has submitted to the OMB a request for extension of approval of that collection of information, without change.

DATES: Written comments on this request for extension of approval of information collection requirements should be submitted by August 28, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2010-0056.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standard for Bicycle Helmets.

OMB Number: 3041-0127.

Type of Review: Renewal of collection.

Frequency of Response: On occasion.

Affected Public: Manufacturers and importers of bicycle helmets.

Estimated Number of Respondents: 30 manufacturers and importers will maintain test records of an estimated 200 models total annually, including older models and new models. Testing on bicycle helmets must be conducted for each new production lot and the test records must be maintained for 3 years.

Estimated Time Per Response: 200 hours/model to test 40 models (including new prototypes), plus 4 hours for recordkeeping for 200 models annually.

Total Estimated Annual Burden: 8,800 hours (8,000 hours for testing and 800 hours for recordkeeping).

General Description of Collection: In 1998, the Commission issued a safety standard for bicycle helmets (16 CFR part 1203). The standard includes requirements for labeling and instructions. The standard also requires that manufacturers and importers of bicycle helmets subject to the standard issue certificates of compliance based on a reasonable testing program. Every person issuing certificates of compliance must maintain certain records. Respondents must comply with the requirements in 16 CFR part 1203 for labeling and instructions, testing, certification, and recordkeeping.

Todd A. Stevenson,
Secretary, Consumer Product Safety Commission.

[FR Doc. 2014-17784 Filed 7-28-14; 8:45 am]

BILLING CODE 6355-01-P